DEPARTMENT OF DEFENSE

Office of the Secretary

Privacy Act of 1974; System of Records

AGENCY: Office of the Secretary, DoD.

ACTION: Notice to amend a system of records.

SUMMARY: The Office of the Secretary of Defense proposes to amend one system of records notice in its inventory of record systems subject to the Privacy Act of 1974 (5 U.S.C. 552a), as amended.

DATES: The changes will be effective on September 17, 2001 unless comments are received that would result in a contrary determination.

ADDRESSES: Send comments to OSD Privacy Act Coordinator, Records Management Section, Washington Headquarters Services, 1155 Defense Pentagon, Washington, DC 20301-1155.

FOR FURTHER INFORMATION CONTACT: Mr. David Bosworth at (703) 588-0159.

SUPPLEMENTARY INFORMATION: The Office of the Secretary of Defense notices for systems of records subject to the Privacy Act of 1974 (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: August 13, 2001.
L.M. Bynum,
Alternate OSD Federal Register Liaison Officer, Department of Defense.

DWHS P28

System name:

Personnel Security Operations File (June 22, 1995, 60 FR 32511).

Changes:

* * * * *

Retention and disposal:

Delete current entry and replace with ‘Active records are maintained for as long as an individual may require a security clearance or suitability certificate because of their affiliation with the agency. When this relationship ceases, files are transferred to inactive status, retained for two years and destroyed.’

* * * * *

DWHS P28

System name:

Personnel Security Operations File.

System location:

Directorate for Personnel and Security, Washington Headquarters Services, Department of Defense, Personnel Security Operations Division, 1155 Defense Pentagon, Room 3B347, Washington, DC 20301-1155.

Categories of individuals covered by the system:

Civilian employees of, and military members assigned to, the Office of the Secretary of Defense, its components and supported organizations including the United States Court of Appeals for the Armed Forces, the Advanced Research Projects Agency, the Ballistic Missile Defense Organization, the American Forces Information Service, the Defense Legal Services Agency, the Defense Security Assistance Agency, the Defense Technology Security Administration, the Defense Medical Program Activity, the Defense POW/MIA Office, and certain personnel selected for assignment to the United States Mission to NATO.

Experts and consultants serving with or without compensation. Certain employees of the Congressional Budget Office and the U.S. Capitol Police.

Staff of Congressional committees and personnel office staff who require access to classified DoD information or material.

Employees of other agencies detailed to the Office of the Secretary of Defense.

Members and staff of DoD commissions and certain Presidential commissions.

Very important people selected to attend orientation conferences. Defense contractors requiring access to special programs.

Unsalaried students working as interns in supported organizations.

Categories of records in the system:

National Agency Checks conducted by the Directorate for Personnel and Security, Washington Headquarters Services; the Individual's Certificate of Security Clearance; security briefing and debriefing statements; security violations and other files pertinent to the security clearance or access status of an individual.

Authority for maintenance of the system:

5 U.S.C. 301, Departmental Regulations; E.O. 12985; E.O. 10450; and E.O. 9397 (SSN).

Purpose(s):

To be used by officials of the Personnel Security Operations Division, Directorate for Personnel and Security, Washington Headquarters Services, to maintain security clearance and authorized access information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

STORAGE:

Hard copy files are maintained in a secured area, and computer files are stored on magnetic tape and disk.

RETRIEVABILITY:

Active personnel security files maintained alphabetically by last name of subject, or by Social Security Number. Inactive personnel security files serially numbered and indexed alphabetically.

SAFEGUARDS:

Files are maintained under the direct control of office personnel during duty hours. Office is locked and alarmed during non-duty hours. Computer media is stored in controlled areas. Computer terminal access is controlled by user passwords that are periodically changed.

RETENTION AND DISPOSAL:

Active records are maintained for as long as an individual may require a security clearance or suitability certificate because of their affiliation with the agency. When this relationship ceases, files are transferred to inactive status, retained for two years and destroyed.

SYSTEM MANAGER(S) AND ADDRESS:

Director for Personnel and Security, Washington Headquarters Services, Department of Defense, Room 3B347, 1155 Defense Pentagon, Washington, DC 20301-1155.

NOTIFICATION PROCEDURE:

Individuals seeking to determine whether information about themselves is contained in this system should address written inquiries to the Director for Personnel and Security, Washington Headquarters Services, Department of Defense, Room 3B347, 1155 Defense Pentagon, Washington, DC 20301-1155.

RECORD ACCESS PROCEDURES:

Individuals seeking to access information about themselves contained in this system should address written inquiries to the Director for Personnel and Security, Washington Headquarters Services, Department of Defense, Room 3B347, 1155 Defense Pentagon, Washington, DC 20301-1155.

CONTESTING RECORD PROCEDURES:

The OSD's rules for accessing records, for contesting contents and appealing initial agency determinations are published in OSD Administrative Instruction 81; 32 CFR part 311; or may be obtained from the system manager.

RECORD SOURCE CATEGORIES:

Applications and related forms from the individual; background investigations and summaries of information from background investigations; employment suitability related information; and forms and correspondence relating to the security clearance and access of the individual.

EXEMPTIONS CLAIMED FOR THE SYSTEM:

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b) (1), (2), and (3), (c) and (e) and published in 32 CFR part 311. For additional information contact the system manager.

[FR Doc. 01-20744 Filed 8-16-01; 8:45 am]

BILLING CODE 5001-08-M